DEPARTMENT OF COMMERCE

National Telecommunications and Information Administration

First Responder Network Authority

[Docket Number 131219999-8730-04]

RIN 0660-XC009

Withdrawal of Notice of Intent To Prepare Supplemental Environmental Impact Statements and Amendment of Record of Decisions for Programmatic Environmental Impact Statements

AGENCY: First Responder Network Authority, National Telecommunications and Information Administration, U.S. Department of Commerce.

ACTION: Notice of intent; withdrawal.

SUMMARY: The First Responder Network Authority (FirstNet Authority) is (1) withdrawing its Notice of Intent to Prepare Supplemental Programmatic Environmental Impact Statements (SPEISs) and Conduct Scoping for the Nationwide Public Safety Broadband Network (NPSBN), and (2) amending five (5) records of decision to remove the references to the FirstNet Authority's intent to prepare the SPEISs.

FOR FURTHER INFORMATION CONTACT: Eli Veenendaal, First Responder Network Authority, National Telecommunications and Information Administration, U.S. Department of Commerce, 3122 Sterling Circle, Suite 100, Boulder, CO 80301 or elijah.veenendaal@firstnet.gov.

SUPPLEMENTARY INFORMATION:

The Middle Class Tax Relief and Job Creation Act of 2012 (47 U.S.C. 1401 et seq.) created and authorized the FirstNet Authority to take all actions necessary to ensure the building, deployment, and operation of an interoperable NPSBN. As part of NPSBN deployment, the FirstNet Authority is required to comply with the National Environmental Policy Act of 1969 (42 U.S.C. 4321 et seq.) (NEPA) and the implementing regulations issued by the Council on Environmental Quality (40 CFR parts 1500-1508) (CEQ Regulations) to assess the environmental effects of its proposed actions prior to making a final decision and implementing the action.

To support NEPA compliance, the FirstNet Authority prepared and finalized five regional programmatic environmental impact statements (PEISs) that analyze the potential environmental impacts of the deployment and operation of the NPSBN at a programmatic level.¹ However, prior to completing the PEISs and issuing corresponding records of decision (RODs), the FirstNet Authority was still in the process of revising the FirstNet Authority Procedures for Implementing the National Environmental Policy Act (FirstNet Authority NEPA Procedures) and identified a potential need to account for these changes in the PEISs and RODs.²

¹ Notice of Availability of a Final Programmatic Environmental Impact Statement for the East Region of the Nationwide Public Safety Broadband Network, 82 FR 49785 (Oct. 27, 2017); See also Notice of Availability of a Final Programmatic Environmental Impact Statement for the South Region of the Nationwide Public Safety Broadband Network, 82 FR 45806 (Oct. 5, 2017); See also Notice of Availability of a Final Programmatic Environmental Impact Statement for the Central Region of the Nationwide Public Safety Broadband Network, 82 FR 41594 (Sept. 1, 2017); Notice of Availability of a Final Programmatic Environmental Impact Statement for the West Region of the Nationwide Public Safety Broadband Network, 82 FR 33870 (July 21, 2017); Notice of Availability of a Final Programmatic Environmental Impact Statement for the Non-Contiguous Region of the Nationwide Public Safety Broadband Network, 82 FR 29825 (June 30, 2017).

² Revised National Environmental Policy Act Procedures and Categorical Exclusions, 82 FR 28621 (June 23, 2017) (proposing and seeking public comment on revised FirstNet Authority Procedures for Implementing NEPA).

Consequently, on September 25, 2017, the FirstNet Authority published a notice of intent (NOI) in the Federal Register to prepare SPEISs to address the potential impact of the FirstNet Authority NEPA Procedures as well as the process the FirstNet Authority would follow to assess potential environmental impacts of the NPSBN deployment at the site specific-level.³ Similarly, the FirstNet Authority also included comparable language relating to its intent to prepare SPEISs in each of the RODS.⁴

³ Notice of Intent To Prepare a Supplemental Programmatic Environmental Impact Statement and Conduct Scoping for the Nationwide Public Safety Broadband Network, 82 FR 44556 (Sept. 25, 2017).

⁴ FirstNet Authority, Final Programmatic Environmental Impact Statement and Record of Decisions for West Region, Central Region, South Region, East Region, and Non-Contiguous Region, https://website.azurewebsites.us/network/peis-content (discussing the intent to prepare a SPEIS in section 3.4.1—Tiered Site Specific Analysis of each ROD).

Subsequently, on February 1, 2018, following the issuance of the NOI and RODs for each region, the FirstNet Authority completed the regulatory process for and published in the Federal Register a notice responding to comments and finalizing its proposed modifications to the FirstNet Authority NEPA Procedures.⁵ The revised FirstNet Authority NEPA Procedures describe the process and review criteria the FirstNet Authority will follow to comply with NEPA and CEQ Regulations for proposed actions related to NPSBN deployment.⁶ In particular, the FirstNet Authority NEPA Procedures define the roles and responsibilities of the FirstNet Authority and its applicants and describe the criteria and process for determining the appropriate level of NEPA review and making environmental determinations and final decisions for site-specific reviews of FirstNet Authority actions related to the NPSBN.⁷

⁵ Revised National Environmental Policy Act Procedures and Categorical Exclusions, 83 FR 4632 (Feb. 1, 2018) (responding to comments and finalizing revisions to FirstNet Authority Procedures for Implementing NEPA).

⁶ FirstNet Procedures for Implementing the National Environmental Policy Act (January 2018), https://www.firstnet.gov/content/notice-revised-national-environmental-policy-act-procedures-and-categorical-exclusions.

⁷ See id.

Accordingly, the FirstNet Authority has reviewed and determined that the revisions to the FirstNet Authority NEPA Procedures do not significantly impact any of the environmental analyses in the PEISs and that the information anticipated to be presented in the SPEISs related to the process for conducting site-specific reviews has already been sufficiently included in the revised FirstNet Authority Implementing Procedures. Thus, to avoid duplicative analysis and the unnecessary use of resources, the FirstNet Authority is (1) withdrawing its Notice of Intent to Prepare SPEISs and Conduct Scoping for the NPSBN, and (2) amending five (5) records of decision to remove the references to the FirstNet Authority's intent to prepare SPEISs, including section 3.4.1—Tiered Site Specific Analysis, in each of the documents.⁸

⁸ The amended RODs for each of five regions are available at www.firstnet.gov.

Dated: August 7, 2018.
Elijah Veenendaal,
Attorney-Advisor, First Responder Network Authority.

[FR Doc. 2018-17225 Filed 8-10-18; 8:45 am]

BILLING CODE 3510-TL-P